DEPARTMENT OF THE INTERIOR

Bureau of Land Management

[PO4820000251]

Notice of Availability of the Record of Decision and Approved Resource Management Plan for the Grand Staircase-Escalante National Monument in Utah

AGENCY: Bureau of Land Management, Interior.

ACTION: Notice of availability.

SUMMARY: The Bureau of Land Management (BLM) announces the availability of the Record of Decision (ROD) for the Approved Resource Management Plan (RMP) for the Grand Staircase-Escalante National Monument (GSENM) in Utah. The Department of the Interior Principal Deputy Assistant Secretary for Land and Minerals Management signed the ROD on Jan. 6, 2025, which constitutes the decision of the BLM, makes the Approved RMP effective immediately, and replaces the 2020 GSENM and Kanab Escalante Planning Area RMPs.

DATES: The Department of the Interior Principal Deputy Assistant Secretary for Land and Minerals Management signed the ROD on Jan. 6, 2025.

ADDRESSES: The ROD/Approved RMP is available online at https://eplanning.blm.gov/eplanning-ui/project/2020343/510 and will also be available for public inspection at the BLM Paria River District Office, 669 US-89A, Kanab, Utah 84741, and BLM Utah Public Room, 440 West 200 South, Ste. 500 Salt Lake City, UT 84101.

A copy of the Protest Resolution Report is available at: https://www.blm.gov/programs/planning-and-nepa/public-participation/protest-resolution-reports.

FOR FURTHER INFORMATION CONTACT: Bryce Franklin, Project Manger, by phone: 435-644-1288; by mail: 669 US-89A, Kanab, Utah 84741; by email: bfranklin@blm.gov. Individuals in the United States who are deaf, deafblind, hard of hearing, or have a speech disability may dial 711 (TTY, TDD, or TeleBraille) to access telecommunications relay services for contacting Mr. Franklin. Individuals outside the United States should use the relay services offered within their country to make international calls to the point-of-contact in the United States.

SUPPLEMENTARY INFORMATION: The BLM prepared the ROD and Approved RMP in response to Presidential Proclamation 10286, which restored the boundaries and management direction for GSENM that existed prior to Dec. 4, 2017, and mandated that the BLM prepare and maintain a new management plan for the BLM-managed lands within the entirety of the restored monument boundaries for the specific purposes of “protecting and restoring the objects identified [in Proclamation 10286] and in Proclamation 6920.” The RMP's purpose is to provide a management framework, including goals, objectives, and management direction, to guide GSENM resource management consistent with the protection and restoration of GSENM objects and the management direction provided in Presidential Proclamations 10286 and 6920.

The Approved RMP is based on the Proposed RMP (Alternative E) from the Final Environmental Impact Statement (EIS), with minor changes to management actions, goals and best practices for forestry, grazing, recreation, vegetation, and wildlife. A full description of modifications and clarifications can be found in section 1.2.2 of the ROD.

The BLM provided the Proposed RMP/Final EIS for public protest on Aug. 30, 2024, for a 30-day protest period and received 19 protest letters. The BLM Assistant Director for Resources and Planning resolved all protests. Responses to protest issues are compiled and documented in a Protest Resolution Report (see ADDRESSES). While no protests were granted, the BLM made several edits to the Approved RMP text to improve clarity based on input received during the protest period .

The BLM provided the Proposed RMP/Final EIS to the Governor of Utah for a 60-day Governor's consistency review on Aug. 30, 2024. The Governor's Office identified concerns and inconsistencies between the Proposed RMP/FEIS and State and local plans, policies, and programs. The BLM considered the concerns, and where not in conflict with the purposes, policies, and programs of Federal laws and regulations applicable to public lands, accepted several recommendations, which are described in sections 1.2.2 and 1.7.4 of the ROD. As the changes were within the range of alternatives considered in the Draft RMP/EIS, the BLM did not seek public comments on the recommendations that were accepted.

On Dec. 20, 2024, the Governor appealed the State Director's decision not to accept all of the State's recommendations, consistent with 43 CFR 1610.3-2. On Jan. 6, 2025, after careful review and consideration of the Governor's points, the Department of the Interior Principal Deputy Assistant Secretary for Land and Minerals Management determined the planning effort properly considered all applicable State and local plans, policies, and programs, and no further changes are necessary to provide for a reasonable balance between the national interest and the State's interest.

(Authority: 40 CFR 1501.9, 43 CFR 1610.2, 43 CFR 1610.5-1)

Matthew A. Preston,
BLM Utah State Director, Acting.

[FR Doc. 2025-00428 Filed 1-10-25; 8:45 am]

BILLING CODE 4331-25-P